DEPARTMENT OF EDUCATION

[Docket No.: ED-2021-SCC-0040]

Agency Information Collection Activities; Comment Request; Application for Flexibility for Equitable Per-Pupil Funding

AGENCY: Office of Elementary and Secondary Education (OESE), Department of Education (ED).

ACTION: Notice.

SUMMARY: In accordance with the Paperwork Reduction Act of 1995, ED is proposing an extension without change of a currently approved collection.

DATES: Interested persons are invited to submit comments on or before May 17, 2021.

ADDRESSES: To access and review all the documents related to the information collection listed in this notice, please use http://www.regulations.gov by searching the Docket ID number ED-2021-SCC-0040. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave SW, LBJ, Room 6W208C Washington, DC 20202-8240.

FOR FURTHER INFORMATION CONTACT: For specific questions related to collection activities, please contact Melissa Siry, (202) 260-0926.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for Flexibility for Equitable Per-pupil Funding.

OMB Control Number: 1810-0734.

Type of Review: Extension without change of a currently approved collection.

Respondents/Affected Public: State, Local, and Tribal Governments Total Estimated Number of Annual Responses: 10.

Total Estimated Number of Annual Burden Hours: 560.

Abstract: This is a request to collect critical information for the Application for Flexibility for Equitable Per-pupil Funding, the instrument through which local educational agencies (LEAs) apply for flexibility to consolidate eligible Federal funds and State and local education funding based on weighted per-pupil allocations for low-income and otherwise disadvantaged students. This program allows LEAs to consolidate funds under the following Federal education programs: Elementary and Secondary Education Act of 1965 (ESEA); Title I, Part A Improving Basic Programs Operated by Local Educational Agencies; Title I, Part C Education of Migratory Children; Title I, Part D, Subpart 2 Local Prevention and Intervention Programs for Children and Youth Who Are Neglected, Delinquent, or At-Risk; Title II Preparing, Training, and Recruiting High-quality Teachers, Principals, or Other School Leaders; Title III Language Instruction for English Learners and Immigrant Students; Title IV, Part A Student Support and Academic Enrichment Grants; Title VI, Part B Rural Education Initiative. On December 10, 2015, the programs above were reauthorized by the Elementary and Secondary Education Act of 1965 (ESEA), as amended by the Every Student Succeeds Act (ESSA). The Flexibility for Equitable Per-pupil Funding under section 1501 of the ESEA allows the U.S. Department of Education (Department) to offer an LEA the opportunity to consolidate funds under the above-listed programs to support the LEA in creating a single school funding system based on weighted per-pupil allocations for low-income and otherwise disadvantaged students, with attendant flexibility in using those funds.

Dated: March 15, 2021.
Juliana Pearson,
PRA Coordinator, Strategic Collections and Clearance Governance and Strategy Division, Office of Chief Data Office, Office of Planning, Evaluation and Policy Development.

[FR Doc. 2021-05596 Filed 3-17-21; 8:45 am]

BILLING CODE 4000-01-P